OFFICE OF PERSONNEL MANAGEMENT

Excepted Service

AGENCY: U.S. Office of Personnel Management (OPM).

ACTION: Notice.

SUMMARY: This notice identifies Schedule A, B, and C appointing authorities applicable to a single agency that were established or revoked from April 1, 2017 to April 30, 2017.

FOR FURTHER INFORMATION CONTACT: Senior Executive Resources Services, Senior Executive Service and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during April 2017.

Schedule B

No schedule B authorities to report during April 2017.

The following Schedule C appointing authorities were approved during April 2017.

Agency name | Organization name | Position title | Request No. | Effective date
DEPARTMENT OF AGRICULTURE | Rural Housing Service Office of the Assistant Secretary for Congressional Relations | Staff Assistant Legislative Analyst | DA170124 DA170129 | 04/12/2017 04/12/2017
| Office of Communications | Deputy Press Secretary Staff Assistant | DA170141 DA170142 | 04/12/2017 04/12/2017
|  | Deputy Director (Press Secretary) | DA170138 | 04/14/2017
| Office of the Secretary | Scheduler Senior Advisor | DA170143 DA170148 | 04/14/2017 04/14/2017
BROADCASTING BOARD OF GOVERNORS | Office of Chief Executive Officer and Director | Special Communications Advisor White House Liaison | IB170002 IB170004 | 04/25/2017 04/24/2017
DEPARTMENT OF COMMERCE | Office of the Chief of Staff | Program Manager, Office of Faith Based and Neighborhood Partnerships | DC170097 | 04/06/2017
|  | Director of Advance and Protocol | DC170094 | 04/14/2017
|  | Advance Assistant | DC170081 | 04/14/2017
| Economic Development Administration | Confidential Assistant Special Advisor | DC170101 DC170063 | 04/06/2017 04/14/2017
| Office of Legislative and Intergovernmental Affairs | Director of Intergovernmental Affairs | DC170148 | 04/12/2017
| Office of the Under Secretary | Press Secretary and Program Manager, Office of Public Affairs | DC170103 | 04/14/2017
| Office of Policy and Strategic Planning | Policy Assistant | DC170105 | 04/14/2017
| Office of Business Liaison | Special Assistant | DC170107 | 04/14/2017
| International Trade Administration | Senior Advisor for Budget and Administration Senior Advisor | DC170089 DC170085 | 04/19/2017 04/20/2017
| Bureau of Industry and Security | Congressional Affairs Specialist (2) | DC170092 DC170114 | 04/14/2017 04/21/2017
COMMODITY FUTURES TRADING COMMISSION | Office of the Chairperson | Market Intelligence Advisor | CT170008 | 04/11/2017
DEPARTMENT OF EDUCATION | Office of Legislation and Congressional Affairs | Confidential Assistant (2) | DB170077 DB170096 | 04/03/2017 04/18/2017
| Office of the General Counsel | Attorney Advisor Confidential Assistant | DB170082 DB170092 | 04/03/2017 04/06/2017
| Office of the Secretary | Confidential Assistant (4) | DB170093 DB170078 DB170085 DB170094 | 04/19/2017 04/03/2017 04/12/2017 04/24/2017
|  | Special Assistant (4) | DB170089 DB170087 DB170105 DB170095 | 04/07/2017 04/14/2017 04/27/2017 04/28/2017
| Office of Special Education and Rehabilitative Services | Confidential Assistant | DB170100 | 04/18/2017
| Office of Elementary and Secondary Education | Confidential Assistant | DB170102 | 04/18/2017
| Office of Communications and Outreach | Special Assistant (3) | DB170088 DB170099 DB170106 | 04/07/2017 04/19/2017 04/20/2017
|  | Confidential Assistant | DB170098 | 04/19/2017
DEPARTMENT OF ENERGY | Office of Public Affairs | Press Assistant (2) | DE170121 DE170125 | 04/04/2017 04/14/2017
|  | Press Secretary | DE170129 | 04/14/2017
| Office of the Assistant Secretary for Energy Efficiency and Renewable Energy | Senior Advisor for External Affairs | DE170119 | 04/06/2017
| Office of Economic Impact and Diversity | Special Assistant | DE170117 | 04/14/2017
| Office of Scheduling and Advance | Director, Office of Scheduling and Advance | DE170133 | 04/14/2017
FEDERAL COMMUNICATIONS COMMISSION | Office of Media Relations | Director | FC170008 | 04/13/2017
GENERAL SERVICES ADMINISTRATION | Office of the Administrator Office of Congressional and Intergovernmental Affairs | White House Liaison Policy Advisor | GS170016 GS170020 | 04/05/2017 04/14/2017
| Office of Regional Administrators | Special Assistant to the Regional Administrator | GS170019 | 04/17/2017
DEPARTMENT OF HEALTH AND HUMAN SERVICES | Office of the Assistant Secretary for Legislation | Director of Investigations | DH170184 | 04/03/2017
| Office of the Secretary | Special Assistant | DH170180 | 04/06/2017
|  | Briefing Coordinator | DH170218 | 04/14/2017
|  | Director of Boards and Commissions | DH170177 | 04/28/2017
|  | Special Assistant for Public Health and Science | DH170187 | 04/14/2017
| Office of the Assistant Secretary for Public Affairs | Assistant Speechwriter (2) | DH170208 DH170212 | 04/11/2017 04/19/2017
| Office of the Assistant Secretary for Public Affairs | Press Assistant (Regional Media) | DH170175 | 04/14/2017
| Office of Administration for Children and Families | Special Assistant | DH170190 | 04/12/2017
| Office of Intergovernmental and External Affairs | Special Assistant | DH170199 | 04/14/2017
| Office of Administration for Community Living | Advisor | DH170234 | 04/26/2017
DEPARTMENT OF HOMELAND SECURITY | Federal Emergency Management Agency | Director, Department of Homeland Security Center for Faith-Based and Neighborhood Partnerships | DM170110 | 04/13/2017
| Office of Privacy Officer | Advisor | DM170113 | 04/24/2017
DEPARTMENT OF HOUSING AND URBAN DEVELOPMENT | Office of Congressional and Intergovernmental Relations | Senior Advisor Advisor | DU170084 DU170087 | 04/03/2017 04/03/2017
| Office of the Administration | Advance Coordinator | DU170106 | 04/03/2017
|  | Director of Scheduling | DU170116 | 04/06/2017
|  | Briefing and Book Coordinator | DU170114 | 04/07/2017
|  | Director of Advance | DU170103 | 04/12/2017
| Office of Public Affairs | Director of Speechwriting | DU170112 | 04/14/2017
| Office of Policy Development and Research | Director for Strong Cities and Strong Communities | DU170111 | 04/19/2017
| Office of the Secretary | Senior Advisor | DU170100 | 04/28/2017
DEPARTMENT OF THE INTERIOR | Office of Congressional and Legislative Affairs | Deputy Director, Office of Congressional and Legislative Affairs | DI170042 | 04/12/2017
DEPARTMENT OF LABOR | Office of the Solicitor Office of the Secretary | Attorney Advisor Counselor | DL170051 DL170052 | 04/06/2017 04/28/2017
NATIONAL AERONAUTICS AND SPACE ADMINISTRATION | Office of the Administrator | White House Liaison | NN170039 | 04/19/2017
OFFICE OF MANAGEMENT AND BUDGET | Office of the Director | Special Assistant Confidential Assistant (2) | BO170057 BO170047 | 04/07/2017 04/12/2017
|  | Deputy Chief of Staff | BO170062 BO170060 | 04/24/2017 04/14/2017
| Office of General Government Programs | Confidential Assistant | BO170061 | 04/07/2017
| Office of the General Counsel | Counsel | BO170050 | 04/14/2017
| Office of Natural Resource Programs | Confidential Assistant | BO170054 | 04/14/2017
| Office of Legislative Affairs | Legislative Analyst | BO170056 | 04/14/2017
| Office of Information and Regulatory Affairs | Counselor | BO170063 | 04/14/2017
| Office of Communications | Press Secretary | BO170065 | 04/19/2017
OFFICE OF THE UNITED STATES TRADE REPRESENTATIVE | Office of the Ambassador | Executive Secretary | TN170011 | 04/19/2017
SMALL BUSINESS ADMINISTRATION | Office of Entrepreneurial Development | Senior Advisor | SB170020 | 04/06/2017
| Office of Field Operations | Senior Advisor | SB170026 | 04/11/2017
| Office of the Administrator | Senior Advisor | SB170022 | 04/14/2017
| Office of Congressional and Legislative Affairs | Legislative Assistant | SB170027 | 04/19/2017
DEPARTMENT OF TRANSPORTATION | Office of Small and Disadvantaged Business Utilization | Senior Advisor | DT170088 | 04/04/2017
| Office of the Secretary | Counselor | DT170080 | 04/12/2017
|  | Executive Assistant | DT170091 | 04/14/2017
|  | Senior Advisor | DT170051 | 04/14/2017
| Office of Public Affairs | Deputy Director for Public Affairs | DT170055 | 04/14/2017
| Office of the Assistant Secretary for Transportation Policy | Deputy Assistant Secretary for Transportation Policy | DT170075 | 04/14/2017
| Office of the Administrator | Director of Governmental Affairs | DT170081 | 04/14/2017
| Immediate Office of the Administrator | Director of Governmental, International and Public Affairs | DT170085 | 04/14/2017
| Office of the Assistant Secretary for Governmental Affairs | Governmental Affairs Officer | DT170092 | 04/14/2017
DEPARTMENT OF THE TREASURY | Office of the Secretary | White House Liaison | DY170102 | 04/14/2017
DEPARTMENT OF VETERANS AFFAIRS | Office of the Assistant Secretary for Public and Intergovernmental Affairs | Special Advisor | DV170047 | 04/14/2017

The following Schedule C appointing authorities were revoked during April 2017.

Agency name | Organization name | Position title | Request No. | Date vacated
COMMODITY FUTURES TRADING COMMISSION | Office of the Chairperson | Director of Legislative Affairs | CT140006 | 04/01/2017
NATIONAL ENDOWMENT FOR THE ARTS | Office of the Chief of Staff | Confidential Assistant to the Chief of Staff | NA160004 | 04/01/2017
NATIONAL MEDIATION BOARD | Office of the Chairman | Confidential Assistant | NM140001 | 04/01/2017

Authority: 5 U.S.C. 3301 and 3302; E.O. 10577, 3 CFR, 1954-1958 Comp., p. 218.

U.S. Office of Personnel Management.
Kathleen M. McGettigan,
Acting Director.

[FR Doc. 2017-23424 Filed 10-26-17; 8:45 am]

BILLING CODE 6325-39-P